NATIONAL AERONAUTICS AND SPACE ADMINISTRATION

[Notice (09-051)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: June 16, 2009.

FOR FURTHER INFORMATION CONTACT: Kaprice L. Harris, Attorney Advisor, Glenn Research Center at Lewis Field, Code 500-118, Cleveland, OH 44135; telephone (216) 433-5754; fax (216) 433-6790.

NASA Case No. LEW-18325-1: External Magnetic Field Reduction Technique for Advanced Stirling Radioisotope Generator.

Dated: June 10, 2009.
Richard W. Sherman,
Deputy General Counsel.

[FR Doc. E9-14056 Filed 6-15-09; 8:45 am]

BILLING CODE;P